DEPARTMENT OF TRANSPORTATION

Federal Aviation Administration

14 CFR Part 71

[Docket No. FAA-2011-1313; Airspace Docket No. 11-AWP-17]

Modification of Class E Airspace; Douglas, AZ

AGENCY: Federal Aviation Administration (FAA), DOT.

ACTION: Final rule.

SUMMARY: This action modifies Class E airspace at Bisbee Douglas International Airport, Douglas, AZ. Decommissioning of the Cochise VHF Omni-Directional Radio Range Tactical Air Navigational Aid (VORTAC) has made this action necessary for the safety and management of aircraft operations at the airport. This action also adjusts the geographic coordinates of the airport, and corrects a typographical error in the legal description for the Class E 700 foot airspace. This improves the safety and management of Instrument Flight Rules (IFR) operations at the airport.

DATES: Effective date, 0901 UTC, May 31, 2012. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

On December 16, 2011, the FAA published in the Federal Register a notice of proposed rulemaking to amend controlled airspace at Douglas, AZ (76 FR 78180). Interested parties were invited to participate in this rulemaking effort by submitting written comments on the proposal to the FAA. No comments were received. Subsequent to publication, the FAA found a typographical error in a bearing of the 1,200 foot airspace description and makes the correction in the rule.

Class E airspace designations are published in paragraph 6002 and 6005, respectively, of FAA Order 7400.9V dated August 9, 2011, and effective September 15, 2011, which is incorporated by reference in 14 CFR 71.1. The Class E airspace designations listed in this document will be published subsequently in that Order.

The Rule

This action amends Title 14 Code of Federal Regulations (14 CFR) Part 71 by modifying Class E surface airspace, and Class E airspace extending upward from 700 feet above the surface at Douglas, AZ. Additional controlled airspace is necessary to accommodate aircraft using VHF Omni-Directional Radio Range/Distance Measuring Equipment, Global Positioning System standard instrument approach procedures at Bisbee Douglas International Airport, Douglas, AZ. Decommissioning of the Cochise VORTAC has made this action necessary and enhances the safety and management of aircraft operations at the airport. The geographic coordinates of the airport is also updated to coincide with the FAA's aeronautical database. In the 700 foot/1,200 foot airspace description, the 20-mile radius bearing 076° is corrected to 075° bearing of the airport.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act.

The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at Bisbee Douglas International Airport, Douglas, AZ.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR Part 71.1 of the Federal Aviation Administration Order 7400.9V, Airspace Designations and Reporting Points, dated August 9, 2011, and effective September 15, 2011 is amended as follows:

Paragraph 6002 Class E airspace designated as surface areas.

* * * * *

AWP AZ E2 Douglas, AZ [Modified]

Bisbee Douglas International Airport, AZ

(Lat. 31°28′08″ N., long. 109°36′14″ W.)

Within a 4.3-mile radius of Bisbee Douglas International Airport, and within 1.8 miles each side of the Bisbee Douglas International Airport 332° bearing extending from the 4.3-mile radius to 7 miles northwest of the airport. This Class E airspace area is effective during the specific dates and times established in advance by a Notice to Airmen. The effective date and time will thereafter be continuously published in the Airport/Facility Directory.

Paragraph 6005 Class E airspace areas extending upward from 700 feet or more above the surface of the earth.

* * * * *

AWP AZ E5 Douglas, AZ [Modified]

Bisbee Douglas International Airport, AZ

(Lat. 31°28′08″ N., long. 109°36′14″ W.)

That airspace extending upward from 700 feet above the surface within 3.9 miles northeast and 8.3 miles southwest of the Bisbee Douglas International Airport 333° bearing extending from the airport to 16.1 miles northwest. That airspace extending upward from 1,200 feet above the surface within a 7.8-mile radius of Bisbee Douglas International Airport, and within a 20-mile radius of Bisbee Douglas International Airport extending clockwise from the 288° bearing to the 075° bearing of the airport, and within 4.3 miles east and 7.4 miles west of the Bisbee Douglas International Airport 347° bearing extending from the airport to 34.5 miles north.

Issued in Seattle, Washington, on February 13, 2012.
John Warner,
Manager, Operations Support Group, Western Service Center.

[FR Doc. 2012-4156 Filed 2-22-12; 8:45 am]

BILLING CODE 4910-13-P